DEPARTMENT OF ENERGY

Federal Energy Regulatory Commission

Combined Notice of Filings #1

Take notice that the Commission received the following electric rate filings:

Docket Numbers: ER19-1959-003.

Applicants: Avista Corporation.

Description: Compliance filing: Avista Corp Amendment to Order 845/854A Compliance Filing to be effective 10/17/2020.

Filed Date: 10/23/20.

Accession Number: 20201023-5061.

Comments Due: 5 p.m. ET 11/13/20.

Docket Numbers: ER19-2621-001; ER19-665-001; ER19-666-001; ER19-667-002; ER19-669-002.

Applicants: FirstLight Power Management LLC, FirstLight CT Housatonic LLC, FirstLight CT Hydro LLC, FirstLight MA Hydro LLC, Northfield Mountain LLC.

Description: Supplement to June 30, 2020 Updated Market Power Analysis for the Northeast Region of FirstLight Power Management LLC, et al.

Filed Date: 10/21/20.

Accession Number: 20201021-5161.

Comments Due: 5 p.m. ET 11/12/20.

Docket Numbers: ER19-2722-002.

Applicants: PJM Interconnection, L.L.C.

Description: Compliance filing: Errata to Pending PJM Fast-Start Compliance Filing to be effective 12/31/9998.

Filed Date: 10/22/20.

Accession Number: 20201022-5136.

Comments Due: 5 p.m. ET 11/12/20.

Docket Numbers: ER20-2820-001.

Applicants: American Transmission Systems, Incorporated, PJM Interconnection, L.L.C.

Description: Tariff Amendment: ATSI submits Amended ECSAs, SA Nos. 5703 and 5704 to be effective 11/4/2020.

Filed Date: 10/23/20.

Accession Number: 20201023-5092.

Comments Due: 5 p.m. ET 11/13/20.

Docket Numbers: ER21-109-001.

Applicants: PJM Interconnection, L.L.C.

Description: Tariff Amendment: Correction to Amendment to WMPA, SA No. 4768; Queue No. AC1-117 (consent) to be effective 8/4/2017.

Filed Date: 10/23/20.

Accession Number: 20201023-5075.

Comments Due: 5 p.m. ET 11/13/20.

Docket Numbers: ER21-172-000.

Applicants: Public Service Company of New Mexico.

Description: § 205(d) Rate Filing: Assignment of Incremental Transmission Service Agreements to be effective 11/20/2020.

Filed Date: 10/21/20.

Accession Number: 20201021-5117.

Comments Due: 5 p.m. ET 11/2/20.

Docket Numbers: ER21-187-000.

Applicants: Duke Energy Florida, LLC.

Description: § 205(d) Rate Filing: DEF-Mount Dora Amended NITSA SA-151 to be effective 1/1/2021.

Filed Date: 10/22/20.

Accession Number: 20201022-5113.

Comments Due: 5 p.m. ET 11/12/20.

Docket Numbers: ER21-188-000.

Applicants: Tampa Electric Company.

Description: § 205(d) Rate Filing: Provisional Interconnection Service under SGIP_SGIA to be effective 11/1/2020.

Filed Date: 10/22/20.

Accession Number: 20201022-5132.

Comments Due: 5 p.m. ET 11/12/20.

Docket Numbers: ER21-189-000.

Applicants: Alabama Power Company.

Description: Tariff Cancellation: Core Solar SPV XX LGIA Termination Filing to be effective 10/23/2020.

Filed Date: 10/23/20.

Accession Number: 20201023-5037.

Comments Due: 5 p.m. ET 11/13/20.

Docket Numbers: ER21-190-000.

Applicants: California Independent System Operator Corporation.

Description: § 205(d) Rate Filing: 2020-10-23 Excess Behind the Meter Production to be effective 1/1/2021.

Filed Date: 10/23/20.

Accession Number: 20201023-5043.

Comments Due: 5 p.m. ET 11/13/20.

Docket Numbers: ER21-191-000.

Applicants: Tri-State Generation and Transmission Association, Inc.

Description: § 205(d) Rate Filing: Service Agreement No. 888 between Tri-State and the BOR to be effective 10/20/2020.

Filed Date: 10/23/20.

Accession Number: 20201023-5045.

Comments Due: 5 p.m. ET 11/13/20.

Docket Numbers: ER21-192-000.

Applicants: NSTAR Electric Company.

Description: § 205(d) Rate Filing: Preliminary Engineering and Design Agreement with Ocean State Power to be effective 10/23/2020.

Filed Date: 10/23/20.

Accession Number: 20201023-5048.

Comments Due: 5 p.m. ET 11/13/20.

Docket Numbers: ER21-193-000.

Applicants: New York Independent System Operator, Inc.

Description: § 205(d) Rate Filing: 205 filing re: unsecured credit requirements tariff revisions to be effective 12/23/2020.

Filed Date: 10/23/20.

Accession Number: 20201023-5058.

Comments Due: 5 p.m. ET 11/13/20.

Docket Numbers: ER21-194-000.

Applicants: Southern California Edison Company.

Description: Tariff Cancellation: Notice of Cancellation of IFA Oasis Power Partners, LLC SA No. 25 to be effective 10/12/2020.

Filed Date: 10/23/20.

Accession Number: 20201023-5072.

Comments Due: 5 p.m. ET 11/13/20.

Take notice that the Commission received the following public utility holding company filings:

Docket Numbers: PH21-1-000.

Applicants: South Jersey Industries, Inc.

Description: South Jersey Industries, Inc. submits FERC 65-A Amended Exemption Notification.

Filed Date: 10/21/20.

Accession Number: 20201021-5177.

Comments Due: 5 p.m. ET 11/12/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2020.
Nathaniel J. Davis, Sr.,
Deputy Secretary.

[FR Doc. 2020-24024 Filed 10-29-20; 8:45 am]

BILLING CODE 6717-01-P